POSTAL SERVICE

Privacy Act of 1974; System of Records

AGENCY: Postal Service.

ACTION: Notice of modification to an existing system of records.

SUMMARY: The Postal Service™ proposes to revise the existing system of records titled, “Inspector General Investigative Records 700.300.” It is being revised to enable the Postal Service Office of Inspector General (OIG) to meet its responsibilities under the Inspector General Act of 1978, as amended by the Inspector General Act Amendments of 1988, 5 U.S.C. App. 3 § 8G. The modifications amend an existing routine use to further clarify how OIG operations can be subject to integrity and efficiency peer reviews by other offices of Inspectors General or councils comprised of officials from other Federal offices of Inspectors General. It also permits other offices or councils to properly and expeditiously investigate allegations of misconduct by senior OIG officials as authorized by a council, the President, or Congress and to report to the council, the President, or Congress on the investigation.

DATES: The revision will become effective without further notice on July 14, 2006 unless comments received on or before that date result in a contrary determination.

ADDRESSES: Comments may be mailed or delivered to the Privacy Office, United States Postal Service, 475 L'Enfant Plaza, SW., Room 10433, Washington, DC 20260-2200. Copies of all written comments will be available at this address for public inspection and photocopying between 8 a.m. and 4 p.m., Monday through Friday.

FOR FURTHER INFORMATION CONTACT: Privacy Office, United States Postal Service, 475 L'Enfant Plaza, SW., Room 10407, Washington, DC 20260-2200. Phone: 202-268-5959.

SUPPLEMENTARY INFORMATION: This notice is in accordance with the Privacy Act requirement that agencies publish their amended systems of records in the Federal Register when there is a revision, change, or addition. The Postal Service has reviewed its systems of records and has determined that the Inspector General Investigative Records system should be revised to modify an existing routine use regarding the OIG sharing information with other offices of inspector general, or councils comprised of officers from other offices of inspector general, as authorized by the President or Congress. Routine use “d” will be revised to provide clarification regarding how information is shared in accordance with the Inspector General Act of 1978, as amended.

The Postal Service does not expect this amended notice to have any adverse effect on individual privacy rights. The amendment does not change the kinds of personal information about individuals that are maintained. Rather, the amendment clarifies disclosures related to Inspector General peer reviews, including the recipients of disclosures, the legal authority, and the purpose of the disclosures. Personally identifiable information derived from other Postal Service Privacy Act systems will continue to be redacted prior to disclosure. Pursuant to 5 U.S.C. 552a(e)(11), interested persons are invited to submit written data, views, or arguments on this proposal. A report of the proposed amendment has been sent to Congress and to the Office of Management and Budget for their evaluation.

Privacy Act System of Record USPS 700.300 was originally published in the Federal Register on October 15, 1998 (63 FR 55416), and amended on February 25, 2004 (69 FR 8707) and April 29, 2005 (70 FR 22516). The Postal Service proposes amending the system as shown below:

Handbook AS-353, Guide to Privacy and the Freedom of Information Act

1 Introduction

* * * * *

Appendix—Privacy Act Systems of Records

* * * * *

Section C. Index of Systems of Records

Part I. General Systems

* * * * *

USPS 700.300 System Name: Inspector General Investigative Records

* * * * *

Routine Uses of Records Maintained in the System, Including Categories of Users and the Purposes of Such Uses

* * * * *

[Revise Item d to read as follows:]

d. Records originating exclusively within this system of records may be disclosed to other Federal offices of inspector general and councils comprised of officials from other Federal offices of inspector general, as required by the Inspector General Act of 1978, as amended. The purpose is to ensure that OIG audit and investigative operations can be subject to integrity and efficiency peer reviews, and to permit other offices of inspector general to investigate and report on allegations of misconduct by senior OIG officials as directed by a council, the President, or Congress. Records originating from any other USPS systems of records, which may be duplicated in or incorporated into this system, may also be disclosed with all personally identifiable information redacted.

* * * * *

Neva R. Watson,
Attorney, Legislative.

[FR Doc. E6-9221 Filed 6-13-06; 8:45 am]

BILLING CODE 7710-12-P